DEPARTMENT OF LABOR

Employment and Training Administration

[TA-W-51,919]

Chevron—Texaco, Customer Service Department, Concord, CA; Dismissal of Application for Reconsideration

Pursuant to 29 CFR 90.18(C) an application for administrative reconsideration was filed with the Director of the Division of Trade Adjustment Assistance for workers at Chevron—Texaco, Customer Service Department, Concord, California. The application contained no new substantial information which would bear importantly on the Department's determination. Therefore, dismissal of the application was issued.

TA-W-51,919; Chevron—Texaco, Customer Service Department, Concord, California (August 8, 2003)

Signed at Washington, DC, this 13th day of August, 2003.
Linda G. Poole,
Acting Director, Division of Trade Adjustment Assistance.

[FR Doc. 03-21275 Filed 8-19-03; 8:45 am]

BILLING CODE 4510-30-P